DEPARTMENT OF COMMERCE

Census Bureau

Proposed Information Collection; Comment Request; Survey of State Research and Development

ACTION: Notice.

SUMMARY: The Department of Commerce, as part of its continuing effort to reduce paperwork and respondent burden, invites the general public and other Federal agencies to take this opportunity to comment on proposed and/or continued information collections, as required by the Paperwork Reduction Act of 1995, Public Law 104-13 (44 U.S.C. 3506(c)(2)(A)).

DATES: Written comments must be submitted on or before July 10, 2006.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument(s) and instructions should be directed to James R. Berry, Jr., U.S. Census Bureau, Governments Division, Washington, DC 20233-6800 (or via the Internet at james.r.berry.jr@census.gov).

SUPPLEMENTARY INFORMATION

I. Abstract

The U.S. Census Bureau plans to conduct a new survey to measure research and development supported and performed by state governments in the United States. This survey will be a joint effort between the Census Bureau and the National Science Foundation (NSF).

The NSF Act of 1950 includes a statutory charge to “provide a central clearinghouse for the collection, interpretation, and analysis of data on scientific and engineering resources and to provide a source of information for policy formulation by other agencies in the Federal Government.” Under the aegis of this legislative mandate, NSF and its predecessors have sponsored surveys of research and development since 1953, including the Survey of Industrial Research and Development. This new survey will expand the scope of research and development collections to include state governments, for which there are no established collection efforts.

Items on the survey form will include research and development expenditures according to the source of funding, by performer of the work (internal and external to state agencies), and by character (i.e., basic, applied, or developmental). Final results produced by NSF will contain state and national estimates useful to a variety of data users interested in research and development performance including: the National Science Board; the Office of Management and Budget; the Office of Science and Technology Policy and other science policy makers; institutional researchers; and private organizations.

II. Method of Collection

All data will be collected electronically via an Internet Web form. The approximately 1,000 state government agencies surveyed will be assisted during the collection period by central state coordinators. This methodology of employing central contacts is used successfully in other government finance surveys conducted by the Census Bureau.

III. Data

OMB Number: None.

Form Number: SRD-1.

Type of Review: Regular submission

Affected Public: State government agencies.

Estimated Number of Respondents: 1,000.

Estimated Time per Response: 1 hour.

Estimated Total Annual Burden Hours: 1,000.

Estimated Total Cost: $19,000.

Respondent's Obligation: Voluntary.

Legal Authority: Title 13 United States Code, Sections 8(b), 161, and 182. Title 15 United States Code, Section 1525.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and included in the request for OMB approval of this information collection. These comments will also become a matter of public record.

Dated: May 5, 2006.
Gwellnar Banks,
Management Analyst, Office of the Chief Information Officer.

[FR Doc. E6-7074 Filed 5-9-06; 8:45 am]

BILLING CODE 3510-07-P